DEPARTMENT OF COMMERCE

National Oceanic and Atmospheric Administration

[RTID 0648-XB114]

Pacific Islands Aquaculture Management Program; Public Meetings

AGENCY: National Marine Fisheries Service (NMFS), National Oceanic and Atmospheric Administration (NOAA), Commerce.

ACTION: Notice of public meetings.

SUMMARY: NMFS will convene four public meetings to receive public comments on a Draft Programmatic Environmental Impact Statement (DPEIS) for an aquaculture management program in the Pacific Islands. The DPEIS outlines potential management alternatives, and analyzes the potential direct, indirect, and cumulative impacts on the environment.

DATES: The virtual meetings will be held between June 15 and June 24, 2021. For specific times, see SUPPLEMENTARY INFORMATION.

ADDRESSES: The public meetings will be held by web conference. Audio and visual portions of the meetings can be accessed at: https://www.mymeetings.com/nc/join/.

Conference number: RWXW2188630, Audience passcode: 2249526, Toll free tel: (800) 857-6627, Alternative (toll) tel: (312) 470-7498.

NMFS will also post meeting access information at https://www.fisheries.noaa.gov/action/potential-aquaculture-management-program-pacific-islands.

For assistance with the web conference connection, contact Tori Spence McConnell, Sustainable Fisheries, NMFS Pacific Islands Regional Office, tel (808) 725-5186.

You may review the DPEIS and submit written comments via the Federal e-Rulemaking Portal. Go to https://www.regulations.gov/document/NOAA-NMFS-2021-0044-0003, click the “Comment” icon, complete the required fields, and enter or attach your comments.

FOR FURTHER INFORMATION CONTACT: Tori Spence McConnell, tel (808) 725-5186.

SUPPLEMENTARY INFORMATION: In accordance with the National Environmental Policy Act and the Magnuson-Stevens Fishery Conservation and Management Act, NMFS prepared a DPEIS for public review and comment. The DPEIS analyzes the potential direct, indirect, and cumulative effects of several offshore aquaculture management alternatives on the human, physical, and biological environment. NMFS and the Western Pacific Fishery Management Council will consider comments received on this DPEIS to develop a final PEIS that would support a future management program for offshore aquaculture in the Pacific Islands.

To provide additional opportunities for the public to comment on the DPEIS, NMFS will hold four public meetings. At each meeting, NMFS will provide a brief presentation about the DPEIS, followed by the opportunity for the public to provide comments. Commenters will be limited to 2 minutes each. If time permits and all commenters have spoken, an opportunity for additional comments may be offered. NMFS may end any of the meetings before the 2-hour scheduled time if all comments have been received.

The public meeting dates are as follows. All times shown are in Hawaii Standard Time.

1. Tuesday, June 15, 2021, at 4 p.m.

2. Tuesday, June 15, 2021, at 7 p.m.

3. Tuesday, June 22, 2021, at 11 a.m.

4. Thursday, June 24, 2021 at 7 p.m.

Special Accommodations

The meetings are accessible to people with disabilities. Please make direct requests for sign language interpretation or other auxiliary aids to Tori Spence McConnell, tel (808) 725-5186, at least 5 days prior to the first meeting date.

(Authority: 16 U.S.C. 1801 et seq.)

Dated: May 19, 2021.
Jennifer M. Wallace,
Acting Director, Office of Sustainable Fisheries, National Marine Fisheries Service.

[FR Doc. 2021-10916 Filed 5-21-21; 8:45 am]

BILLING CODE 3510-22-P